DEPARTMENT OF ENERGY

Federal Energy Regulatory Commission

[Project No., 14804-000]

Control Technology, Inc.; Notice of Preliminary Permit Application Accepted for Filing and Soliciting Comments, Motions To Intervene, and Competing Applications

On October 28, 2016, Control Technology, Inc. filed an application for a preliminary permit, pursuant to section 4(f) of the Federal Power Act (FPA), proposing to study the feasibility of the Blue Diamond Advanced Pumped Storage Project (Blue Diamond Project or project) to be located near Blue Diamond, Clark County, Nevada. The sole purpose of a preliminary permit, if issued, is to grant the permit holder priority to file a license application during the permit term. A preliminary permit does not authorize the permit holder to perform any land-disturbing activities or otherwise enter upon lands or waters owned by others without the owners' express permission.

The proposed project would be a closed-loop pumped storage project that would consist of the following: (1) A new upper reservoir with a maximum elevation of 4,810 feet above mean sea level (MSL), and a storage capacity of 4,900 acre-feet; (2) a new lower reservoir with a maximum elevation of 3,320 feet MSL, and a storage capacity of 4,900 acre-feet; (3) a 21-foot-diameter, 4,300-foot-long concrete and steel penstock; (4) a powerhouse with approximate dimensions of 200 feet by 100 feet and 150 feet high, and containing two vertical single-stage reversible Francis-type pump/turbine units with a total installed capacity of 450 megawatts; (5) a 132-kilovolt, 3.5-mile-long transmission line; and (6) appurtenant facilities. The water used to initially fill the reservoirs and supplement evaporative losses will either be hauled or piped in from a yet-to-be-determined source. The proposed project would produce about 4,500 megawatt hours (MWh) of energy daily, and use about 5,600 MWh daily to pump water from the lower to the upper reservoir. The estimated annual generation of the Blue Diamond Project would be 1,170 gigawatt-hours.

Applicant Contact: Mr. Rexford Wait, Control Technology, Inc., 2416 Cades Way, Vista, CA 92083; phone: (760) 599-0086.

FERC Contact: Evan Williams; phone: (202) 502-8462.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14804-000.

More information about this project, including a copy of the application, can be viewed or printed on the “eLibrary” link of Commission's Web site at http://www.ferc.gov/docs-filing/elibrary.asp. Enter the docket number (P-14804) in the docket number field to access the document. For assistance, contact FERC Online Support.

Dated: April 11, 2017.
Kimberly D. Bose,
Secretary.

[FR Doc. 2017-07690 Filed 4-14-17; 8:45 am]

BILLING CODE 6717-01-P